DEPARTMENT OF HEALTH AND HUMAN SERVICES

Indian Health Service

Health Promotion and Disease Prevention

Funding Opportunity Number: HHS-2005-IHS-0001.

Announcement Type: New.

CFDA Number: 93.193 and 93.284.

Key Dates:

Application Deadline: June 1, 2005.

Application Review: July 15, 2005.

Application Notification: August 31, 2005.

Earliest Anticipated Start Date: October 1, 2005.

I. Funding Opportunity Description

The Indian Health Service (IHS), announces the availability of Fiscal Year (FY) 2005 grants to implement the IHS Health Promotion/Disease Prevention (HP/DP) Initiative to create healthier American Indian/Alaska Native (AI/AN) communities through innovative and effective community, school, clinic, and work site health promotion and chronic disease prevention programs.

The IHS HP/DP Initiative is focusing on enhancing and expanding health promotion and chronic disease prevention to reduce health disparities among AI/AN populations. The plan is fully integrated with the Department of Health and Human Services (HHS) Initiative such as Healthy People 2010 and Steps to a HealthierUS http://www.healthierus.gov/.

The initiative focuses on cardiovascular disease, diabetes, cancer, obesity, and unintentional injury prevention and intervention efforts in AI/AN communities. Focus efforts include enhancing and maintaining personal and behavioral factors that support healthy lifestyles such as making healthier food choices, avoiding the use of tobacco, alcohol, and other harmful substances, being physically active, and demonstrating other positive behaviors to achieve and maintain good health.

Major focus areas include preventing and controlling obesity by developing and implementing science-based nutrition and physical activity interventions (i.e., increased consumption of fruits and vegetables, reduced consumption of foods that are high in fat, increased breastfeeding, reduced television time, and increased opportunities for physical activity). Other focus areas include preventing consumption of alcohol and tobacco use among youth, reducing unintentional injury, increasing accessibility to tobacco cessation programs, and reducing exposure to second-hand smoke.

The purpose of this initiative is to enable American Indian/Alaska Native (AI/AN) communities to enhance and expand health promotion and reduce chronic disease by: increasing physical activity; avoiding the use of tobacco, alcohol, and other unhealthy addictive substances; and improving nutrition to support healthier AI/AN communities through innovative and effective community, school, clinic and work site health promotion and chronic disease prevention programs.

The initiative encourages Tribal applicants to fully engage their local schools, communities, health care providers, health centers, faith-based/spiritual communities, senior centers, youth programs, local governments, academia, non-profit organizations, and many other community sectors to work together to enhance and promote health and prevent chronic disease in their communities.

This initiative is described in the Catalog of Federal Domestic Assistance Nos. 93.193 and 93.284 at: http:/www.cfda.gov/ and is not subject to the intergovernmental review requirements of Executive Order 12372 or Health Systems Agency review. Awards are made under the authorization of the Indian Health Care Improvement Act, Title V, Sections 503 and 511, Public Law 94-437 as amended, Public Law 100-713, 101-630, and 102-572 also, the Public Health Service Act 203 and 301(a), as amended. The grant will be administered under the Public Health Service Grants Policy Statement an dother applicable agency policies.

The Public Health Service (PHS) is committed to achieving the health promotion and disease prevention objectives of Healthy People 2010, a PHS-led activity for setting priority areas. This program announcement is related to the priority area of Education and Community-Based Programs. Potential applicants may obtain a copy of Healthy People 2000, (Full Report; Stock No. 017-001-00474-0) or Healthy People 2010 (Summary report: Stock No. 017-001-00473-1) through the Superintendent of Documents, Government Printing Office, Washington, DC 20402-9325 (Telephone 202-783-3238).

Background

Heart disease, cancer and unintentional injuries are the leading cause of morbidity and mortality among AI/AN. Many of these diseases and injuries are impacted by modifiable behavioral risk factors such as physical inactivity, unhealthy diet, tobacco, and alcohol abuse. Concerted efforts to increase efficacious public health, prevention, and intervention strategies are necessary to reduce tobacco/alcohol use, poor diet, and insufficient physical activity to reduce the burden of diseases and disabilities to AI/AN communities.

Although the National 2010 objective recommends that adults engage in 30 minutes of regular, moderate physical activity each day, only 15 percent of adults performed the recommended amount of physical activity. Despite the well known benefits of physical activity, many adults and children remain sedentary. A health diet and regular physical activity are both important for maintaining a healthy weight. Regular physical activity, fitness, and exercise are extremely important for the health and well being of all people. A profound change from a “traditional” low fat diet of largely unprocessed plant foods to an “affluent” high fat diet of more animal fats, simple carbohydrates, and less fiber is accompanied by an increasing prevalence of obesity and chronic diseases. Historically, American Indians consumed a diet that was high in complex carbohydrates, high in fiber, and low in fat. Today, their diet is replaced by food high in refined carbohydrates, fat, and a low consumption of fruits and vegetables. A proliferation of fast food restaurants and convenience stores selling foods that are high in fat and sugar, as well as sedentary lifestyles have translated into weight gain and obesity. There are also epidemiological studies indicating that increased intake of fruits and vegetables decreases the risk of many types of cancer.

Many of the medical and health problems of AI/AN are associated with obesity. There is limited data on the prevalence of obesity among AI/AN, although it is estimated that 40 percent of American Indian children and one-third of adults are overweight. Tobacco use is the largest preventable cause of disease and premature death in the United States. More than 400,000 Americans die each year from illnesses related to smoking. Cardiovascular disease and lung cancer are the leading causes of death among AI/AN, and tobacco use is one of the risk factors for these diseases. Non-ceremonial tobacco use varies amongst AI/AN regions and states.

Interventions may include environmental and policy changes in the community, school, clinic or work sites to increase physical activity, increase healthier food items at school fund raising, vending machines, school food service, senior centers, shopping centers, food vendors, work sites, Tribal colleges and other community settings. Other strategies include no smoking policies in the workplace and clinics, safe walking trails for community access, improving access to tobacco cessation programs, utilize social marketing to promote change and prevent disease, reduce underage drinking, increasing effective self management of chronic disease and associated risk factors, and increasing evidence-based clinical preventive care practices. Programs are expected to utilize evidence-based public health strategies that may include system improvement, public education and information, media campaigns to support healthier behaviors, policy and environmental changes, community capacity building and training, school classroom curricula, and health care provider education.

Activities

All recipient activities funded under this program announcement are required to coordinate with existing federal, local public health agencies. Tribal programs, and/or local coalitions/task forces to enhance joint efforts to strengthen health promotion and disease prevention programs in the community, school and/or work site. All recipients are required to address one of the following or a combination of all three components; school, work site, clinic, or community-based.

a. Community Engagement

Create and build on current alliances by identifying key coalitions, task forces, and partners that focus on health promotion and chronic disease prevention and its associated risk factors. The key to success is to engage partners and stakeholders that demonstrate commitment to the initiative by their willingness to invest leadership, personnel, expertise, and other resources.

Partners may include local public health agencies, local health programs, local and state education agencies (i.e., Bureau of Indian Affairs and public), Indian Health Service, health care hospitals/clinics, local businesses, academia, spiritual and faith-based organizations, community coalitions/task forces youth-focused organizations, and elderly-focused organizations.

b. Community Action Plan, Community, Work Site, Clinic-Based, and/or School-Based Interventions

Identify and implement high priority, effective strategies proven to prevent, reduce and control chronic diseases or reduce injuries. The communities must examine their chronic disease burden, identify behavioral risk factors, at-risk populations, current services and resources, Tribal and IHS strategic plans, and partnership capabilities in order to develop a comprehensive community action plan. Applicants are encouraged to identify and examine local data sources to describe the extent of the health problem. Data sources include IHS Resource Patient Management System (RPMS), Government Performance and Results Act (GPRA), diabetes registry, hospital/clinic data, Women Infant Children (WIC) data, school data, behavioral risk surveys, injury data and other sources of information about individual, group, or community health status, needs, and resources.

Communities can address behavioral risk factors contributing to chronic, conditions and diseases such as cardiovascular disease, diabetes, obesity, cancer, and unintentional injury. These factors include physical activity, nutrition, tobacco, alcohol and substance use. Applicants are encouraged to apply effective and innovative strategies to reduce chronic disease and unintentional injuries. Current evidence-based and promising public health strategies can be found at the IHS Best Practices database at http://www.ihs.gov/nonmedicalprograms/hpdp/bptr/ Guide to Clinical Preventive Services at http://www.odphp.osophs.dhhs.gov /pubs/guidecps/ and http://www.ahrq.gov and the National Registry for Effective Programs at http://modelprograms.samhsa.gov/template.cfm?page=nrepbutton.

II. Award Information

1. Type of Funding Instrument: Grant.

It is expected that $1,290,000 will be available in FY 2005 to fund Tribal and Urban programs. The maximum amount for each award is $64,500 for 12-month budget period. Approximately 20 awards will be made. If you request a funding amount greater than the ceiling of the award range, your application will be considered non-responsive, and will not be entered into the review process. You will be notified that your application did not meet the submission requirements.

III. Eligibility Information

1. Eligible Applicants

Federally Recognized Tribes and Tribal Organizations, Urban Indians Organizations and Non-profit Organizations.

Non-profit organizations must submit:

1. Copies of their 501(C)(3) Certificate (required).

2. The following document is required if applicable.

Tribal Resolution—A resolution of the Indian Tribe served by the project must accompany the application submission. An Indian Tribe that is proposing a project affecting another Indian Tribe must include resolutions from all affected Tribes to be served. Applications by Tribal organizations will not require a specific Tribal resolution if the current Tribal resolution(s) under which they operate would encompass the proposed grant activities. Draft resolutions are acceptable in lieu of an official resolution. However, an official signed Tribal resolution must be received by the Division of Grants Operations prior to the beginning of the Objective Review (July 14-15 or July 20-21, 2005). If an officially signed resolution is not submitted by the date referenced, the application will be considered incomplete and will be returned without consideration. Documentation of Consortium Participation—If an Indian Tribe submitting an application is a member of a consortium, the Tribe must:

• Identify the consortium.

• Indicate if the consortium intends to submit a Tribal Management Grant (TMG) application.

• Demonstrate that the Tribe's application does not duplicate or overlap any objectives of the consortium's application.

If a consortium is submitting an application it must:

• Identify all the consortium member Tribes.

• Identify if any of the member Tribes intends to submit a TMG application of their own.

• Demonstrate that the consortium's application does not duplicate or overlap any objectives of the other consortium members who may be submitting their own TMG application.

3. Letters of support from the AI/AN community served (required).

4. Letters of support from the Tribal chairperson/president, the Tribal council, or the Tribal health director in support of the application (required).

5. Evidence of Proof of non-profit status of Tribal organization on or near a Federally recognized Tribe:

(a) A reference to the applicant organization's listing in the Internal Revenue Service's (IRS) most recent list of the tax-exempt organization described in the IRS Code.

(b) A copy of a currently valid IRS tax exemption certificate.

(c) A statement from a State or Tribal taxing body, State attorney general, or other appropriate State or Tribal Official certifying that the applicant organization has a non-profit status and that none of the net earnings accrue to any private shareholders or individuals.

(d) A certified copy of the organization's certificate of incorporation or similar document that clearly establishes non-profit status.

(e) Any of the items in the subparagraphs immediately above for a State, Tribe or national parent organization and a statement signed by the parent organization that the applicant organization is a local non-profit affiliate.

The applicant must provide documentation of: (1) Non-profit status, and (2) provide Tribal or health board resolution. If the required documents are not submitted, the application will be considered non-responsive and will not be entered into the review process.

2. Cost Sharing or Matching

Cost sharing or matching is not required.

3. Other Requirements

If a funding amount is requested greater than the ceiling of the award, the application will be considered non-responsive, and will not be entered into the review process. You will be notified that your application did not meet the submission requirements.

Late applications will be considered non-responsive. See Section “IV.3. Submission Dates and Times” for more information on deadlines.

IV. Application and Submission Information

1. Address To Request Application Package

To apply for this funding opportunity use application form SF-424. Application forms and instructions are available on the Web site at the following internet address: http://www.grants.gov. If you do not have access to the Internet, or if you have difficulty accessing the forms online, you may contact the IHS—Division of Grants Operation staff at: (301) 443-5204. Application forms can be mailed to you. If you have questions, you may contact:

Ms. Alberta Becenti, Division of Clinical & Community Services, Indian Health Service, 801 Thompson Avenue, Suite 320, Rockville, Maryland 20852. Phone (301) 443-4305.

Ms. Patricia Spottedhorse, Division of Grants Operations, Indian Health Service, 801 Thompson Avenue, Suite 120, Rockville, Maryland 20852. Phone (301) 443-5204.

2. Content and Form of Application Submission

The program announcement title and number must appear in the application. Use the information in the Activities Section, Review Criteria Section, and this section to develop the application content. Your application will be evaluated on the criteria listed, consequently, it is important to follow this guide carefully.

• Font size: 12 point unreduced

• Double-spaced

• Paper size: 8.5 by 11 inches

• Page margin size: one inch

• Printed only on one side of page

• Held together only by rubber bands or metal clips; not bound in any other way.

• Contain a narrative that does not exceed 20 typed pages that includes the below listed sections. (The 20-page narrative does not include standard forms, Tribal Resolution(s), budget and other appendix items).

—Abstract (1 page)

—Background and needs

—Intervention Plan

—Plans for Monitoring and Program Evaluation

—Organizational Capabilities and Qualifications

—Communication and Information Sharing

• Include in the application the following documents in the order presented.

—Application Receipt Record, IHS-815-1A

—FY 2006 Application Checklist

—Standard Form 424, Application for Federal Assistance

—Standard Form 424A, Budget Information—Non-Construction Programs (1-2)

—Standard Form 424B, Assurances—Non-Construction Programs (front and back). The application shall contain assurances to the Secretary that the applicant will comply with program regulations, 42, CFR Part 136 Subpart H.

—Certifications (pages 17-19)

—PHS-5161 Checklist (pages 25-26)

—Disclosure of Lobbying Activities

—Abstract

—Table of Contents

—Application Narrative

—Budget

—Appendix Items

Other Format Requirements:

(a) Please number pages consecutively from beginning to end so that information can be located easily during review of the application. The abstract page should be page 1, and the table of contents page should be page 2. Appendices should be labeled and separated from the Project Narrative and Budget Section, and the pages should be numbered to continue the sequence.

(b) Abstract

Abstract describing the overall project, intervention area and population size, partnerships, intervention strategies, and major outcomes. The abstract is limited to 1 page.

(c) Table of Contents

Table of Contents with page numbers for each of the following sections.

(d) Application Narrative

The application narrative (excluding the appendices) must be no more than 20 pages, double-spaced, printed on one side, with one-inch margins, and unreduced 12-point font. If your narrative exceeds the page limit, only the first 20 pages will be reviewed. The narrative should include background and needs; intervention plan; plan for monitoring and evaluation; organizational capabilities and qualifications; communication and information sharing.

(e) Budget

Detail budget by line item along with detailed narrative justification explaining why each line item is necessary/relevant to the proposed project (personnel, supplies, equipment, training etc.,). You may include in-kind services to carry out proposed plans.

(f) Letters of Support

The narrative should include a summary of the organizations that have submitted letters of support, resolution, and Memorandum of Understanding (as appropriate) from the local key partners specifying their roles, responsibilities, and resources. Actual letters, resolution, and Memorandum of Understanding should be placed in the appendix.

(g) Appendix

The following additional information may be included in appendix. The appendices will not be counted toward the narrative page limit. Appendices are limited to the following items:

• Tribal Resolution or Health Board Resolution

• Organizational Charts

• Letters of Support, Resolution, or Memorandum of Understanding

• Resumes of key staff that reflect current duties

Any material submitted in the appendices that is not listed here will not be reviewed. All information included in the appendices should be clearly referenced within the 20 page narrative to aid reviewers in connecting information in the appendices to that provided in the narrative.

3. Submission Dates and Times

Applications are due by close of business June 1, 2005, 5 p.m. eastern time. Applications shall be considered as meeting the deadline if they are either: (1) Received on or before the deadline with hand-carried applications received by close of business 5 p.m. or postmarked on or before the deadline date at: Indian Health Service, Division of Grants Operation, Attention: Lois Hodge, 801 Thompson Avenue, Suite 120, Rockville, MD 20852. A legibly dated receipt from a commercial carrier or the U.S. Postal Service will be accepted in lieu of a postmark. Private metered postmarks will not be accepted as proof of timely mailing. Applicants are cautioned that express/overnight mail services do not always deliver as agreed. IHS cannot accommodate transmission of applications by fax or e-mail.

Applications which do not meet the criteria above will be considered late. Late applications will be returned to the applicant and will not be considered for funding. IHS will not notify applicants upon receipt of application.

4. Intergovernmental Review

This funding opportunity is not subject to Executive Order 12372, “Intergovernmental Review of Federal Programs.” A State approval is not required.

5. Funding Restrictions

Funds may be used to expand or enhance existing activities to accomplish the objectives of this program announcement. Funds may be used to pay for consultants, contractors, materials, resources, travel and associated expenses to implement and evaluate intervention activities such as those described under the “Activities” section of this announcement. Funds may not be used for direct patient care, diagnostic medical testing, patient rehabilitation, pharmaceutical purchases, facilities construction, or lobbying.

Electronic Submission Information

Electronic Transmission—You may submit your application to us in either electronic or paper format. To submit an application electronically, please use the http://www.Grants.gov Web site. If you use Grants.gov, you will be able to download a copy of the application package, complete it offline and then upload and submit the application via the Grants.gov site. You may not e-mail an electronic copy of a grant application to us.

Please note the following if you plan to submit your application electronically via Grants.gov:

(a) Electronic submission is voluntary.

(b) When you enter the Grants.gov site, you will find information about submitting an application electronically through the site, as well as the hours of operation. We strongly recommend that you do not wait until the deadline date to begin the application process through Grants.gov.

(c) To use Grants.gov, you, as the applicant, must have a DUNS Number and register in the Central Contractor Registry (CCR). You should allow a minimum of five days to complete CCR registration.

(d) You will not receive additional point value because you submit a grant application in electronic format, nor will you be penalized if you submit an application in paper format.

(e) You may submit all documents electronically, including all information typically included on the SF 424 and all necessary assurances and certifications.

(f) Your application must comply with any page limitation requirements described in the program announcement.

(g) After you electronically submit your application, you will receive an automatic acknowledgement from Grants.gov that contains a Grants.gov tracking number. The Indian Health Service will retrieve your application from Grants.gov.

(h) You may access the electronic application for this program on http://www.Grants.gov.

(i) You must search for the downloadable application package by CFDA number.

6. Other Submission Requirements

DUNS Number—As of October 1, 2003, applications must have a DUNS and Bradstreet (D&B) Data Universal Numbering System (DUNS) number as the Universal Identifier when apply for Federal Grants or cooperative agreements. The DUNS number may be obtained by calling (866) 705-5711 or through the Web site at http://www.dunandbroadstreet.com/. The DUNS number should be entered on the SF 424 face page. Internet applications for a DUNS number can take up to 30 days and this could cause organizations to lose opportunities to apply, or delay them. It is significantly faster to obtain one by phone. You will need the following information to request a DUNS number:

• Organization name.

• Organization address.

• Organization telephone number.

• Name of CEO, Executive Director, President, etc. (the person in charge).

• Legal structure of the organization.

• Year organization started.

• Primary business (activity) line.

• Total number of employees.

V. Application Review Information

1. Criteria

You are required to provide measurable objectives related to the performance goals stated in the “Purpose” section of this announcement. Measures must be objective and measure the intended outcome. These measures of effectiveness must be submitted with the application and will be an element of evaluation. Applicants will be evaluated and rated according to weights assigned to each section as noted in parentheses.

• Abstract (no points).

• Background and Needs (Total 20 points).

a. Is the proposed intervention clearly and the extend of the problem thoroughly described, including targeted population served and geographic location of the proposed project?

b. Area data provided that substantiate the existing burden and/or disparities of chronic diseases and conditions in the target population to be served?

c. Are assets and barriers to successful program implementation identified?

d. How well are existing resources used to complement or contribute to the effort planned in the proposal?

• Intervention Plan (Total 40 points).

a. Does the plan include objectives, strategies, and activities that are specific, realistic, measurable, and time-phased related to identified needs and gaps in existing programs?

b. Does the proposed plan include intervention strategies to address risk factors contributing to chronic conditions and diseases?

c. How well does the plan reflect local capacity to provide, improve, or expand services that address the needs of the target population?

d. Does the proposed plan include the action steps on a timeline, identify who will perform the action steps, identify who will coordinate the project, and identify who will develop and collect the evaluation, and include any training that will take place during the proposed project?

e. If the plan includes consultants or contractors, does the plan include educational requirements, work experience and qualifications, expected work products to be delivered and includes a timeline? If potential consultant/contractor has already been identified, please include a resume in the appendix.

• Plan for Monitoring and Program Evaluation (Total 15 points).

a. Does the plan describe appropriate data sources to monitor and track changes in community capacity; the extent to which interventions reach populations at risk; changes in risk factors; and changes in program efficiency?

b. Does the application demonstrate the capability to conduct surveillance and program evaluation, access and analyze data sources, and use evaluation to strengthen the program?

c. Does the applicant describe how the project is anticipated to improve specific performance measures and outcomes compared to baseline performance?

• Organizational Capabilities and Qualifications (Total 10 points).

a. Does the plan include the organizational structure of the Tribe/Tribal organization?

b. Does the applicant describe plans to share experiences, strategies, and results with other interested communities and partners?

c. Does the plan include the ability of the organization to manage the proposed plans, including information on similar sized projects in scope s well as other grants and projects successfully completed?

d. Does the applicant include key personnel who will work on the project? Position descriptions should clearly describe each position and duties, qualifications and experiences related to the proposed plan. Résumés must indicate the staff qualifications to carry out the proposed plan and activities.

e. How will the plan be sustained after the grant ends?

• Communication and Information Sharing (Total 5 points).

a. Does the application describe plans to share experiences, strategies, and results with other interested communities and partners?

b. Does the applicant describe plans to ensure effective and timely communication and exchange of information, experiences and results through mechanisms such as the Internet, workshops, and other methods?

• Budget Justification (Total 10 points).

a. Is the budget reasonable and consistent with the proposed activities and intent of the program?

b. Does the budget narrative justification explain each line item and the relevancy to the proposed plan?

c. Does the budget include in-kind services?

2. Review and Selection Process

Applications will be reviewed for timeless and completeness by the Division of Grants Operation and for responsiveness by the Health Promotion/Disease Prevention staff. Late and incomplete applications (those that do not include all required forms and all elements as described in Section IV.2. of this program announcement) will not be entered into the review process. Applications will be evaluated and rated on the basis of the evaluation criteria listed in Section V.1. Applicants will be notified that their application did not meet submission requirements.

Proposals will be reviewed for merit by the Objective Review Committee consisting of three federal and three non-federal reviewers appointed by the IHS. The technical review process ensures the selection of quality projects in a national competition for limited funding. After review of the applications, rating scores will be compared, and the application with the highest rating score are selected to receiving funding. Applications scoring below 60 points will be disapproved and returned to the applicant.

3. Anticipated Announcement and Award Dates

Successful applicants can expect notification no later that August 31, 2005. A notice of award signed by the Grants Management Officer will be mailed to the authorized representative. IHS will mail notification to the authorized representative of unsuccessful applicants.

VI. Award Administration Information

1. Award Notices

Successful applicants will receive a Notice of Grant Award from the IHS Headquarters, Division of Grants Operation. The Division of Grants Operation will not award a grant without an approved application in conformance with regulatory and policy requirements which describes the purpose and scope of the project to be funded. When the application is approved for funding, the Grants Management Office will prepare a Notice of Grant Award (NGA) with special terms and conditions binding upon the award and refer to all general terms applicable to the award. The NGA will serve as the official notification of a grant award and will state the amount of Federal funds awarded.

Applicants whose applications are declared ineligible will receive written notification of the eligibility determination and their original grant application via postal mail. The ineligible notification will include information regarding the rationale for the ineligible decision citing specific information from the original grant application. Applicants who are approved but unfunded and disapproved will receive a copy of the Executive Summary which identifies the weaknesses and strengths of the application submitted.

2. Administrative and National Policy Requirements

• 45 CFR Part 92, “Department of Health and Human Services, Uniform Administrative Requirements for State and Local Governments Including Indian Tribes,” or 45 CFR Part 74, “Administrative of Non-Profit Recipients”

• Appropriate Cost Principals: OMB Circular 87, “State and local governments,” or OMB Circular A-122, “None-Profit Organizations”

• OMB Circular A-133, “Audits of States, Local Governments, and Non-Profit Organizations”

3. Reporting

Grantees are responsible and accountable for accurate reporting of the Progress Reports and Financial Status Reports which are required semi-annually. These report will include a brief comparison of actual accomplishments to the goals established for the period, reasons for slippage (if applicable), and other pertinent information as required. Financial Status Reports (SF 269)—Semi annual financial reports must be submitted within 30 of the end of the half year. A Final Financial Status Reports (SF 269) are due within 90 days of expiration of the budget/project period and must be verified from the grantee records on how the value was derived. Grantees are allowed a reasonable period of time in which to submit required financial and performance reports.

Failure to submit required reports within the time allowed may result in suspension or termination of an active grant, withholding of additional awards for the project, or other enforcement actions such as withholding of payments or converting to the reimbursement method of payment. Continued failure to submit required reports may result in the imposition of special award provisions, or cause other eligible projects or activities involving that grantee organization, or the individual responsible for the delinquency to not be funded.

VII. Agency Contact(s)

1. Questions on the programmatic and technical issues may be directed to: Alberta Becenti, Health Promotion/Disease Prevention Consultant, (301) 443-4305, (301) 443-8170, abecenti@hqe.ihs.gov.

2. Question on grants management and fiscal matters may be directed to: Patricia Spottedhorse, Grants Management Specialist, (301) 443-5204, (301) 443-9602, PSpotted@hqe.ihs.gov.

The Public Health Service strongly encourages all grant and contact recipients to provide a smoke-free workplace and promote the non-use of tobacco products. In addition, Public Law 103-227, the Pro-Children Act of 1994, prohibits smoking in certain facilities (or in some cases, any portion of the facility) in which regular or routine education, library, day care, health care or early childhood development services are provided to children.

This is consistent with the Public Health Service mission to protect and advance the physical and mental health of the American people.

Dated: April 7, 2005.
Charles W. Grim,
Assistant Surgeon General, Director, Indian Health Service.

[FR Doc. 05-7460 Filed 4-13-05; 8:45 am]

BILLING CODE 4165-16-M